DEPARTMENT OF COMMERCE

National Oceanic and Atmospheric Administration

[Docket No. 100820388-0388-01]

RIN 0648-ZC20

NOAA Regional Ocean Partnership Funding Program—FY2011 Funding Competition

AGENCY: National Ocean Service, National Oceanic and Atmospheric Administration (NOAA), Department of Commerce.

ACTION: Notice.

SUMMARY: The purpose of this document is to advise eligible state, local, territory and tribal governments, regional ocean partnerships, institutions of higher learning, and non-profit and for-profit organizations (requirements described in full announcement) that NOAA is soliciting proposals for competitive funding for Regional Ocean Partnerships that include or emphasize regional Coastal and Marine Spatial Planning (CMSP) efforts. This competition is focused on advancing effective coastal and ocean management through regional ocean governance and the goals for national ocean policy set out in the July 2010 Final Recommendations of the Interagency Ocean Policy Task Force, which includes a national CMSP Framework. The Regional Ocean Partnership Funding Program (ROPFP) will support two categories of activities:

(1) Implementation of activities that contribute to achieving the priorities identified by Regional Ocean Partnerships (ROPs) while also advancing CMSP as envisioned in the national CMSP Framework; and

(2) ROP Development and Governance Support for administration and operations of existing ROPs, and for start-up costs of those regions beginning ROPs.

Eligible entities must submit to NOAA full proposals on or before December 10, 2010, in order to participate in this Fiscal Year (FY) 2011 funding opportunity. Total anticipated funding is approximately $20,000,000 and is subject to the availability of FY 2011 appropriations. Additional funds of approximately $10,000,000 from NOAA or other Federal agencies may be used for FY 2011 or multi-year awards from this competition. The start date on proposals should be the first day of July, August or September, but no later than October 1, of 2011. Statutory authority for this program is provided under Coastal Zone Management Act, 16 U.S.C. 1456c (Technical Assistance).

DATES: Full proposals must be received no later than 11:59 p.m. ET, December 10, 2010. For proposals submitted through Grants.gov, a date and time receipt indication by Grants.gov will be the basis of determining timeliness. Hard copy applications will be date and time-stamped when they are received. Full proposals received after the submission deadline will not be reviewed or considered. Anticipated Announcement of Award: June 1, 2011.

ADDRESSES: Full proposal application packages, including any letters of support, should be submitted through the apply function on Grants.gov. If an applicant does not have Internet access, one set of originals (signed) and two copies of the proposals and related forms should be mailed to the attention of James Lewis Free, NOAA Coastal Services Center, 2234 South Hobson Avenue, Charleston, South Carolina 29405-2413. No e-mail or fax copies will be accepted.

FOR FURTHER INFORMATION CONTACT: For administrative questions, contact James Lewis Free, NOAA CSC; 2234 South Hobson Avenue, Room B-119; Charleston, South Carolina 29405-2413, phone 843-740-1185, fax 843-740-1224, e-mail James.L.Free@noaa.gov. For technical questions regarding this announcement, contact Rebecca Smyth, phone 510-251-8324, e-mail Rebecca.Smyth@noaa.gov. To obtain a copy of the Final Recommendations of the Interagency Ocean Policy Task Force, please refer to http://www.whitehouse.gov/files/documents/OPTF_FinalRecs.pdf.

SUPPLEMENTARY INFORMATION: Announcement of Funding Opportunity also available at http://www.csc.noaa.gov/funding/.

Federal Agency Name(s): Coastal Services Center, National Ocean Service, National Oceanic and Atmospheric Administration (NOAA), Department of Commerce.

Funding Opportunity Title: NOAA Regional Ocean Partnership Funding Program—FY 2011 Funding Competition.

Announcement Type: Initial Announcement.

Funding Opportunity Number: NOAA-NOS-CSC-2011-2002718.

Catalog of Federal Domestic Assistance Number: 11.473, Coastal Services Center.

Full Text of Announcement

I. Funding Opportunity Description

A. Program Objectives

This Regional Ocean Partnership Funding Program (ROPFP) is focused on advancing effective coastal and ocean management through regional ocean governance, including the goals for national ocean policy and coastal and marine spatial planning set out in the July 2010 Final Recommendations of the Interagency Ocean Policy Task Force, http://www.whitehouse.gov/files/documents/OPTF_FinalRecs.pdf. In the justification for a national CMSP Framework, the Ocean Policy Task Force (OPTF) underscores the need for planning and governance with the following assessment:

The Nation's interests in the ocean, our coasts, and the Great Lakes support a growing number of significant and often competing uses and activities, including commercial, recreational, cultural, energy, scientific, conservation, and homeland and national security activities. Combined, these activities profoundly influence and benefit coastal, regional, and national economies and cultures. However, human uses of our ocean, coasts, and the Great Lakes are expanding at a rate that challenges our ability to plan and manage them under the current sector-by-sector approach. While many existing permitting processes include aspects of cross-sectoral planning (through, for example, the process governed by the National Environmental Policy Act), most focus solely on a limited range of management tools and outcomes (e.g., oil and gas leases, fishery management plans, and marine protected areas). Missing from this picture is a more integrated, comprehensive, ecosystem-based, flexible, and proactive approach to planning and managing these uses and activities. This new approach would be national in scope to address national interests, but also scalable and specific to regional and local needs. Without such an improved approach, we risk an increase in user conflicts, continued planning and regulatory inefficiencies with their associated costs and delays, and the potential loss of critical economic, ecosystem, social, and cultural services for present and future generations.

The OPTF, the Pew Oceans Commission, the U.S. Commission on Ocean Policy and the Joint Ocean Commission Initiative have all called for stronger regional ocean governance mechanisms to improve our understanding of ocean and coastal ecosystems, and to address fragmented planning and management of societal uses of coastal and ocean lands and waters. The value in this approach is reflected in the rapid engagement by most coastal states in new Regional Ocean Partnerships (ROP). These partnerships have been established to facilitate the effective management of ocean and coastal resources across jurisdictional boundaries by improving communications, aligning priorities, and enhancing resource-sharing between local, State, tribal and Federal agencies.

Coastal and Marine Spatial Planning (CMSP) is an important planning tool for regional ocean governance. CMSP is a comprehensive, adaptive, integrated, ecosystem-based, and transparent spatial planning process, based on sound science, for analyzing current and anticipated uses of ocean, coastal, and Great Lakes areas. Intended to look across multiple sectors and jurisdictions in an objective and collaborative regional fashion, CMSP identifies areas most suitable for various types or classes of activities in order to reduce conflicts among uses, reduce environmental impacts, facilitate compatible uses, and preserve critical ecosystem services to meet societal objectives, including economic, environmental and security considerations. In practical terms, CMSP provides a public policy process for society to better determine how the ocean, coasts, and Great Lakes are sustainably used and protected for future generations. As noted in the OPTF's Final Recommendations, potential opportunities and incentives for regions undertaking CMSP include:

(1) Encouraging and informing the Federal government to better manage resources or address processes that transcend jurisdictional boundaries;

(2) Defining local and regional objectives and developing and implementing CMSP in a way that is meaningful to regionally specific concerns;

(3) Leveraging, strengthening, and magnifying local planning objectives through integration with regional and national planning efforts;

(4) Proactively addressing concerns over proposed activities impacting State and tribal interests and minimizing use conflicts before they escalate;

(5) Leveraging support from the Federal government to build CMSP capacity, access CMSP data; and acquire scientific, technical, and financial assistance;

(6) Accessing data through CMSP Portal(s) and utilizing science tools developed, established, and maintained for CMSP efforts;

(7) Benefiting from sustained Federal participation on the regional planning bodies that consist of representatives empowered to make decisions and commitments on behalf of their respective agencies, in turn helping to integrate and improve decision-making;

(8) Providing a clearer and easier point of access for all Federal agencies with regard to ocean, coastal, and Great Lakes issues; and

(9) Achieving regulatory efficiencies, reduction in administrative delays, and cost savings.

The OPTF's CMSP Framework generally identifies large marine ecosystems (LME) as the basis for defining CMSP regions. LMEs are defined on the basis of consistent ecological conditions and other factors. For CMSP purposes, the United States is subdivided into nine regional planning areas based on LMEs with modifications as necessary to ensure inclusion of the entire U.S. EEZ and Continental Shelf, and to allow for incorporation of existing state or regional ocean governance bodies. For the most part, the boundaries of regional governance structures for the Northeast, Mid-Atlantic, South Atlantic, Gulf Coast, West Coast, and Great Lakes lie within LME boundaries. The OPTF also designates Alaska, Hawaii and the U.S. Pacific Islands, and the U.S. Caribbean as regions, resulting in a total of nine regions. For purposes of this funding opportunity, NOAA will generally use the OPTF-defined regions for consideration in ROPFP funding proposals. Where possible, NOAA has identified an existing lead ROP or planning body for each region (see Section III.C.). Regional Ocean Partnerships are defined as below:

Regional Ocean Partnerships are voluntary, usually multi-state, Governor-established forums that develop shared priorities and take critical action on a broad diversity of ocean, coastal and Great Lakes needs, as relevant to their region. They have different structures and employ varied methods and approaches to enhance the ecological and economic health of the region. Their efforts involve non-governmental stakeholders and all of the multiple state and Federal agencies involved in coastal and ocean management.

For the purposes of this announcement, all applicants must coordinate their proposals for a region with the identified lead ROP or planning body of that region. The goal of this coordination is to ensure awareness, enhance collaboration, and contribute to achieving the best outcomes for regional ocean governance and healthy, resilient and sustainable oceans, coasts and Great Lakes resources.

The ROPFP is intended to support development or implementation of regional ocean governance priorities that also advance the objectives detailed in the OPTF's national CMSP Framework. Regional priorities may be identified in existing ROP plans (e.g., Gulf of Mexico Alliance, Northeast Regional Ocean Council, Mid-Atlantic Regional Council on the Ocean, the South Atlantic Alliance, the Great Lakes Council of Governors and the West Coast Governors' Agreement on Ocean Health), or emerge through developing ROP efforts. The ROPFP is also intended to support regional ocean governance efforts with funds for administration and operations of existing ROPs, and for development costs of those regions beginning ROPs (including Alaska, Hawaii and the U.S. Pacific Islands, and the U.S. Caribbean).

The ROPFP program will support two categories of activities:

(1) Focus Area 1—Implementation of activities that meet both regional ocean governance priorities identified by ROPs in action plans and other public documents and the purposes and priorities of the national CMSP Framework; and

(2) Focus Area 2 (up to approximately $3M)—Development and governance support for administration and operations of existing and new ROPs, including development of plans and management of ROP activities.

This funding opportunity supports the Department of Commerce's objectives to “Support coastal communities that are environmentally and economically sustainable,” and “Support climate adaptation and mitigation.” It also directly contributes to the NOAA strategic goal for Resilient Coasts and Economies, and the objectives therein, including “Comprehensive Ocean and Coastal Planning and Management” and “Resilient Coastal Communities That Can Adapt to Impacts of Hazards and Climate Change.”

B. Program Priorities

Focus Area 1

Focus Area 1 funds are intended to support a spectrum of regional ocean governance priorities including those that address national goals for CMSP. CMSP is an important planning tool for supporting a number of regional ocean governance efforts; therefore Focus Area 1 proposals that also advance comprehensive CMSP, either through regional planning processes or through building capacity by addressing relevant CMSP principles will be given highest priority in the final evaluation. The OPTF's CMSP Framework identifies twelve Guiding Principles:

(1) CMSP would use an ecosystem-based management approach that addresses cumulative effects to ensure the protection, integrity, maintenance, resilience, and restoration of ocean, coastal, and Great Lakes ecosystems, while promoting multiple sustainable uses.

(2) Multiple existing uses (e.g., commercial fishing, recreational fishing and boating, marine transportation, sand and gravel mining, and oil and gas operations) and emerging uses (e.g., off-shore renewable energy and aquaculture) would be managed in a manner that reduces conflict, enhances compatibility among uses and with sustained ecosystem functions and services, provides for public access, and increases certainty and predictability for economic investments.

(3) CMSP development and implementation would ensure frequent and transparent broad-based, inclusive engagement of partners, the public, and stakeholders, including with those most impacted (or potentially impacted) by the planning process and with underserved communities.

(4) CMSP would take into account and build upon the existing marine spatial planning efforts at the regional, State, tribal, and local level.

(5) CMS Plans and the standards and methods used to evaluate alternatives, tradeoffs, cumulative effects, and sustainable uses in the planning process would be based on clearly stated objectives.

(6) Development, implementation, and evaluation of CMS Plans would be informed by sound science and the best available information, including the natural and social sciences, and relevant local and traditional knowledge.

(7) CMSP would be guided by the precautionary approach as defined in Principle 15 of the Rio Declaration, which states that, “Where there are threats of serious or irreversible damage, lack of full scientific certainty shall not be used as a reason for postponing cost-effective measures to prevent environmental degradation.”

(8) CMSP would be adaptive and flexible to accommodate changing environmental conditions and impacts, including those associated with global climate change, sea-level rise, and ocean acidification; and new and emerging uses, advances in science and technology, and policy changes.

(9) CMSP objectives and progress toward those objectives would be evaluated in a regular and systematic manner, with public input, and adapted to ensure that the desired environmental, economic, and societal outcomes are achieved.

(10) The development of CMS Plans would be coordinated and compatible with homeland and national security interests, energy needs, foreign policy interests, emergency response and preparedness plans and frameworks, and other national strategies, including the flexibility to meet current and future needs.

(11) CMS Plans would be implemented in accordance with customary international law, including as reflected in the 1982 Law of the Sea Convention, and with treaties and other international agreements to which the United States is a party.

(12) CMS Plans would be implemented in accordance with applicable Federal and State laws, regulations, and Executive Orders.

In addition, proposals that also address the national Areas of Special Emphasis as identified in the OPTF July 2010 final report will receive some priority in the evaluation. The Areas of Special Emphasis are:

(1) Resiliency and Adaptation to Climate Change and Ocean Acidification: Strengthen resiliency of coastal communities and marine and Great Lakes environments and their abilities to adapt to climate change impacts and ocean acidification.

(2) Regional Ecosystem Protection and Restoration: Establish and implement an integrated ecosystem protection and restoration strategy that is science-based and aligns conservation and restoration goals at the Federal, State, tribal, local, and regional levels.

(3) Water Quality and Sustainable Practices on Land: Enhance water quality in the ocean, along our coasts, and in the Great Lakes by promoting and implementing sustainable practices on land.

And where applicable:

(4) Changing Conditions in the Arctic: Address environmental stewardship needs in the Arctic Ocean and adjacent coastal areas in the face of climate-induced and other environmental changes, and

(5) Ocean, Coastal, and Great Lakes Observations, Mapping and Infrastructure: Strengthen and integrate Federal and non-Federal ocean observing systems, sensors, data collection platforms, data management, and mapping capabilities into a national system and integrate that system into international observation efforts.

Therefore, proposals for ROPFP funds might articulate (but are not limited to) how a region would move forward on planning consistent with the OPTF's CMSP Framework; or implement key priority actions of the existing ROPs that would apply CMSP Guiding Principles to an Area of Special Emphasis; or provide tools and information identified as an ROP priority that are also critical for regional CMSP. Some examples of how an applicant might propose to advance an ROP's capacity to conduct comprehensive regional CMSP across multiple sectors and jurisdictions include:

(1) The synthesis of relevant spatial data on ecosystem structure, function, services and human uses on a regional scale;

(2) The development or application of decision-support tools to help planners and stakeholders assess the implications of alternative ocean use scenarios throughout the region; or

(3) The identification of regional goals and objectives for appropriate uses of ocean and coastal areas.

In addition, the creation of new and innovative partnerships and broader stakeholder engagement beyond the existing governmental relationships of the ROPs will be needed for successful planning and implementation of CMSP. This element needs to be included in projects that will be considered for CMSP efforts.

The CMSP process consists of a series of steps that would eventually lead to the development of a comprehensive, multi-sectoral, and multi-objective CMS Plan. Although the CMSP process envisions optimum flexibility among and within regions, the following essential elements—and how the partners plan to accomplish them—would need to occur in all regions in order to ensure a level of national consistency. The process would be adaptive and refined as regions gain experience with CMSP. In determining whether ROP proposals are using a CMSP approach, applicants should indicate how they are addressing the CMSP Guiding Principles as well as how the proposed approach aligns with the Essential Elements of the CMSP process (also noted in the OPTF's CMSP Framework):

(1) Identify Regional Objectives.

(2) Identify Existing Efforts that Should Help Shape the Plan Throughout the Process.

(3) Engage Stakeholders and the Public at Key Points throughout Process.

(4) Consult Scientists and Technical and Other Experts.

(5) Analyze Data, Uses, Services, and Impacts.

(6) Develop and Evaluate Alternative Future Spatial Management Scenarios and Tradeoffs.

(7) Prepare and Release for Public Comment a Draft CMS Plan With Supporting Environmental Impact Analysis Documentation.

(8) Create a Final CMS Plan and Submit for National Ocean Council (NOC) Review.

(9) Implement, Monitor, Evaluate, and Modify (as needed) the NOC-Certified CMS Plan.

Development and implementation of CMS Plans would be an iterative process leading to a comprehensive, multi-objective, multi-sectoral plan within the first five years. Since each region may have different drivers and capabilities for CMSP, regions may choose to prioritize initial development and implementation steps. While CMSP should help resolve many use conflicts, it is not realistic to expect that all such conflicts would be resolved. Further, partners might agree not to resolve certain issues in a CMS Plan at a particular time, but rather to acknowledge these issues and indicate how the parties would continue to work on them as part of the iterative CMSP process. Such issues may be resolved as data gaps are filled, new information is developed, or as State or Federal legal authorities are enacted, changed, or updated.

For example, offshore energy is an ROP priority that could also address CMSP Guiding Principles. ROPs will need to develop a solid spatial framework and socioeconomic measures to understand the trade-offs and make sound decisions on siting offshore energy facilities—the planning approach, decision support tools and information used in planning for offshore energy siting are also needed for developing an effective regional CMSP. Data collection and data synthesis can also illustrate the intersection between CMSP and many ROP priorities. For example, the collection of seafloor mapping data and relevant products from that data could support siting decisions about waterborne commerce, recreational use of the area, or protection of key resources. These data, fundamental to our understanding of our ocean resources and where activities can occur, are also fundamental to comprehensive CMSP tools.

Focus Area 1 proposals that effectively articulate the connection between the proposed project, CMSP Guiding Principles and Essential Elements and the Areas of Special Emphasis, and the priorities publicly identified by the relevant ROP will receive the highest rankings based upon NOAA's criteria (see Section V.A.).

Focus Area 2

The intent of Focus Area 2, ROP Development and Governance Support, is to help support administration and operations for existing ROPs, and support development for regions that are initiating ROP activities.

Proposals might seek funding for any aspects of these elements in support of ROP development and impact. Some examples include: Funding for ROP staff support to coordinate and facilitate stakeholder engagement; holding stakeholder engagement meetings; identifying, developing and/or managing implementation of priority activities in the region; establishing a non-profit organization under 26 U.S.C. 501(c)(3) or other fiduciary entity to represent the ROP or entering into a partnership with an existing non-profit organization established under section 501(c)(3) to act as fiduciary; developing annual reports and other outreach materials to demonstrate the importance of broad support for regional ocean governance. ROP participation should be voluntary, emphasize collaborative management, and involve all states in the region.

C. Program Authority

Statutory authority for this program is provided under Coastal Zone Management Act, 16 U.S.C. 1456c (Technical Assistance).

II. Award Information

A. Funding Availability

Total anticipated funding for all ROPFP awards is approximately $20,000,000 and is subject to the availability of FY 2011 appropriations. Additional funds of approximately $10,000,000 from NOAA or other Federal agencies may be used for FY 2011 or multi-year awards from this competition. Multiple awards are anticipated from this announcement. The anticipated Federal funding per Focus Area 1 award (min-max) is approximately $1,000,000 to $3,500,000. The anticipated Federal funding per Focus Area 2 award (min-max) is approximately $100,000 to $500,000.

The anticipated number of awards ranges from twelve (12) to thirty (30), and will be adjusted based on available funding. Applicants must be aware that funds have not yet been appropriated for this program. If additional funding is made available in FY 2011 through Congress for ROPFP, NOAA may select additional FY 2011 proposals for funding rather than open a new competition, or augment FY 2011 awards that were only partially funded.

There is no limit on the number of proposals from each region. Applicants may bundle multiple projects into one proposal, or may submit single projects; however, NOAA will evaluate all projects for readiness and feasibility for completion within the required 2 year time frame. Applicants must note the requirement detailed in Section III.C. for demonstration of coordination with the relevant ROP on projects.

There is no guarantee that funds will be available to make awards for this Federal funding opportunity or that any proposal will be selected for funding. If an applicant incurs any costs prior to receiving an award agreement signed by an authorized NOAA official, they do so at their own risk of these costs not being included in a subsequent award. In no event will NOAA or the Department of Commerce be responsible for any proposal preparation costs. In addition, NOAA and DOC will not be responsible for proposal or project costs if this program fails to receive funding. Recipients and sub-recipients are subject to all Federal laws and agency policies, regulations, and procedures applicable to Federal financial assistance awards. Applicants must be in good standing with all existing NOAA grants and/or cooperative funding agreements in order to receive funds.

B. Project/Award Period

Focus Area 1 is for multiple year awards with project periods up to 24 months. Multiple year awards receive all funding in the first year, but the performance period can be two years. Competitive announcements for this purpose may be published in future years, and if so, applicants may resubmit proposals or submit new proposals for funding in future years.

Focus Area 2 is for multi-year awards. Multi-year awards are partially funded when the awards are approved, but may receive subsequent increments of funding. Proposed projects may request funding for one to three years and once awarded, those awards will not compete for funding in subsequent years.

Proposals in Focus Area 1 or 2 not funded in the current fiscal period may be considered for funding in another fiscal period without NOAA repeating the competitive process outlined in this announcement.

C. Type of Funding Instrument

Applications should be written as cooperative agreements and the proposal should clearly identify this funding instrument in the proposal abstract and cover sheet. Applicants should clearly articulate the Federal roles and responsibilities in implementing the proposal. Examples of Federal involvement include Federal co-leadership of the ROPs, Federal leadership on priority task teams, and staff support to working groups and leadership teams.

III. Eligibility Information

A. Eligible Applicants

All state, local, territory and tribal governments, institutions of higher learning, non-profit and for-profit organizations that may receive and expend Federal funds as legal entities are eligible to apply. As defined at 15 CFR 24.3, local government means a county, municipality, city, town, township, local public authority (including any public and Indian housing agency under the United States Housing Act of 1937), school district, special district, intrastate district, council of governments (whether or not incorporated as a non-profit corporation under State law), any other regional or interstate government entity, or any agency or instrumentality of a local government.

Please note the requirement detailed in Section III.C. for demonstration of coordination with the relevant ROP on projects and funding amounts proposed.

Federal agencies and employees are not allowed to receive funds under this announcement but may serve as collaborative project partners. If Federal agencies are collaborators, applicants should provide detail on the level of Federal engagement in the application. Examples might include, but are not limited to, providing additional funding, in-kind services, or serving in a review capacity.

The lead applicant on any proposal will be responsible for ensuring that allocated funds are used for the purposes of, and in a manner consistent with, this program, including any funds awarded to an eligible sub-awardee.

B. Cost Sharing or Matching Requirement

There is no requirement for cost sharing.

C. Other Criteria That Affect Eligibility

In order to be eligible to compete, a project or applicant must meet one or more of the

following criteria, as applicable to the proposed project and Focus Area:

(1) Represent or directly partner with a member of an existing regional ocean governance partnership;

(2) Possess the authority, proven capacity, and regional relationships to effectively coordinate the development of a regional ocean governance priorities that engages affected coastal states and territories and their management agencies, including the approved coastal zone management program;

(3) Demonstrate formal commitments with existing regional ocean governance partnerships and coastal states or territories (including the approved coastal zone management program) to adopt the plan(s), product(s) or outcome(s) of a proposed project into regional or state ocean management planning processes or coastal and ocean resource management policies.

Where applicable, each proposal must directly involve or include a letter of support or endorsement from the lead ROP for each region (identified below) for the purposes of this funding opportunity. The letter should confirm that the proposed project has been evaluated for its contributions to regional ROG priorities, and specifically indicate concurrence with recommended approach and proposal funding amounts.

The existing lead ROPs identified for each region for the purposes of the ROPFP are:

(1) Northeast Regional Ocean Council.

(2) Mid-Atlantic Regional Council on the Ocean.

(3) South Atlantic Governors' Alliance.

(4) Gulf of Mexico Alliance.

(5) West Coast Governors' Agreement on Ocean Health.

(6) Council of Great Lakes Governors.

During FY 2011, applicants for Alaska, Hawaii, Pacific Island Commonwealths and Territories, and the Caribbean will be allowed to compete for Focus Area 1 funds by demonstrating that they are working towards a regional ocean partnership in their respective regional planning areas as identified above. This can be accomplished by providing letters of support for each proposal from their respective Office of the Governor and lead State and Federal agencies as well as tribes involved in coastal and ocean management. Part of this application must outline steps towards creating a ROP. Applicants from these regions where no ROP currently exists are strongly encouraged to also submit proposals for Focus Area 2 funds in order to develop ROP capacity for regional ocean governance and CMSP objectives. These regions will be eligible for Focus Area 1 funding in FY 2012 and beyond once they establish the partnerships needed for comprehensive ocean governance.

Allowable uses for funds:

Direct and indirect costs for administering the ROPFP award are allowable and must be incurred within the award period. Note that administrative costs may be included, but the total amount allocated for costs of this nature should be minimized to the greatest extent possible. Direct and indirect costs may include time spent by staff for project planning, implementation, and review. If an application includes indirect costs, the amount must be based on the indirect cost rate negotiated and approved by the applicant's cognizant Federal agency. The total amount allocated for indirect costs may not exceed the value of 20 percent of the Federal share, e.g., a proposal requesting $250,000 in Federal funds may include a maximum of $50,000 for indirect costs in the budget. Applicants requesting indirect costs will be required to submit a copy of their indirect cost rate agreement.

IV. Application and Submission Information

A. Address To Request Application Package

Application packages for full proposals are available through the apply function on Grants.gov. If an applicant does not have Internet access, application packages can be requested from James Lewis Free at 2234 South Hobson Avenue, Charleston, South Carolina 29405-2413; 843-740-1185; or James.L.Free@noaa.gov.

B. Content and Form of Application Submission

(1) Focus Area 1 Proposals:

Full proposal applications must be 15 pages or less (single-spaced, 11 or 12-point font and exclusive of appendices). The 15-page limit does not include the proposal title page, a table of contents (if included), the project summary (referenced below), and any appendices. Appendices should be limited to materials that directly support the main body of the proposal (e.g., detailed budget information, support letters, resumes, references, lists of data sources, maps, and/or required Federal forms as noted above in Section IV.B.1). Applicants should number the pages in the proposal and any appendices. Appendices may be paginated as stand-alone documents (individually) or as part of the larger document. Proposals failing to comply with the format prescribed in this section will be deemed incomplete and will not be considered for further review.

Required Elements

All funding application packages must contain the following components:

(1) Title Page (Proposal Cover Sheet). Include proposal title, complete contact information for the Principal Investigator and Financial Representative, duration of proposed project, funding type (cooperative agreement), and amount of funding request.

(2) Project Summary. Provide a one to two-page summary of the proposed project. The summary should be written for easy understanding by a broad audience and contain the following sections:

i. Project Name/Title.

ii. Primary Contact (name, address, phone, fax, e-mail).

iii. Recipient Organization or Institution (If the project is intended to be administered under an existing NOAA Cooperative Institute, please state which Institute will administer the award).

iv. Other Investigators (name, affiliated organization, institution or agency).

v. Brief Project Summary (whether for Focus Area 1 or Focus Area 2, or both) including objectives, ties to ROP priorities and applicable CMSP approaches, and intended benefits.

vi. Partners.

vii. Proposed funding for each year of the project. If the proposal includes funding to NOAA to provide technical assistance on the project, make sure to note the amounts by year and line office that is the intended recipient of the funds.

(3) Project Description. All project descriptions (proposals) must include the following sections:

i. Goal and Objective(s). Describe in the narrative the specific project goals and objectives to be achieved. In particular, note the connection to regional ocean governance, including ROP priorities and, where applicable, how CMSP can be applied to address those priorities, and expected outcomes. Recipients will be required to submit semi-annual reports describing progress toward these goals and objectives. Provide a description of measures of success that will be used to evaluate progress and success in achieving the goals and objectives of the project.

ii. Background. Provide sufficient background information for NOAA and non-NOAA reviewers to independently assess the significance of the proposed project for advancing regional coastal and ocean planning and management priorities. Summarize the problem to be addressed, identified needs and the status of ongoing efforts to address them. Summarize the relationship of the proposed work to other ongoing or planned regional ocean governance efforts.

iii. Partnerships: Provide information on the range of partners, including local, State, tribal, and Federal government as well as non-governmental organizations, academia, and industry. Include the roles and support each key partner is providing and how the ROP will include and grow partnerships as appropriate to achieve the goals of both the ROP and as appropriate, CMSP.

iv. Audience. Identify specific users of the results of the project, describe how they will use the results, and identify any training that will be needed for users to make full use of the results.

v. Approach. Provide a work plan that: identifies specific tasks to be accomplished; explains the technical approach (including quality assurance) needed to accomplish the tasks; identifies the roles of partners and cooperators; and identifies potential obstacles to successful completion of the goals and objectives. Describe how users are involved in the planning and design process. The work plan must clearly address data management requirements, and the steps to be taken to achieve efficient and effective data access and archiving that is compliant with Federal regulations. Identify methods that will be used to ensure that the project will be coordinated to achieve active and meaningful participation by all partners and appropriate stakeholders in the region. Clearly identify the roles and responsibilities of the Federal partners.

vi. Benefits. Identify, with a high degree of specificity, the uses of the information derived from the work, and the benefits that will be achieved from those uses, or by particular users of the information, as well as society as a whole. Document how valid user requirements are guiding the proposed work. Describe how the information from the project will be delivered to those users, and any special considerations or requirements for ensuring or improving the delivery of information.

vii. Milestone Schedule. Display time lines for major tasks, target milestones for important intermediate and final products, and key project outcomes.

viii. Project Budget. Provide a budget description that follows the categories and formats in the NOAA grants package (Standard Form 424-A) and a brief narrative justification of the budget. Detailed budget information, such as a repeat of the information in Form SF-424A along with more details should be included in an appendix. In this appendix, the budget narrative also shall clearly identify the cost of separable elements of the proposed work and shall identify the elements of the project that the cooperator would recommend for revision or elimination if sufficient funding is not available for all proposed activities. Applicants must itemize and describe the intended use of equipment costing $5,000 or greater that will be purchased under the award. Applicants must complete a lease versus purchase analysis for any equipment $5,000 or greater. For proposals to carry out basic or applied scientific research, non-profit institutions of higher education or non-profit organizations whose primary purpose is conducting scientific research should identify, if possible, who will be requested to retain ownership of any equipment purchased through grant funds after the project ends. The budget narrative must also provide, to the extent possible, detailed information on travel, including costs, a description of anticipated travel, destinations, the number of travelers, and a justification of how the requested travel is directly relevant to the successful completion of the project. If actual trip details are unknown, applicants must state the basis for the proposed travel charges. Applicants should allocate travel funds for any coordination meetings at regional or national levels. Foreign travel must receive prior approval, and therefore, should be included in the proposal to avoid having to request prior approval after the project starts. Applicants may factor in travel costs for participation in a NOAA Grants Management Division workshop for recipients, as well as for meeting with NOAA staff and/or key project personnel.

(4) Appendices

i. Mandatory Detailed Budget Information, including budgets of subawards and contracts. Information should include the name of the entity receiving funds, the location of the entity receiving the funds (for example, city, state, and Congressional district), and the location of the primary place of performance under the contract/subaward.

ii. Resumes. Provide resumes of the Principal Investigator for the project and other key personnel critical to the success of the project. Ensure that resumes address qualifications relevant to conducting the proposed work. Please limit resumes to a maximum of two pages for each key investigator.

iii. National Environmental Policy Act (NEPA)—Under the National Environmental Policy Act (NEPA), NOAA must analyze the potential environmental impacts of projects or proposals seeking funding from NOAA. Detailed information on NOAA compliance with NEPA can be found at the following NOAA NEPA Web site: http://www.nepa.noaa.gov/including our NOAA Administrative Order 216-6 for NEPA, http://www.nepa.noaa.gov/NAO216_6_TOC.pdf and the Council on Environmental Quality implementation regulations, http://ceq.eh.doe.gov/nepa/regs/ceq/toc_ceq.htm.

Consequently, as part of an applicant's package, and under their description of their program activities, applicants are required to provide detailed information on the activities to be conducted, locations, sites, species and habitat to be affected, possible construction activities, and any environmental concerns that may exist (for example, the use and disposal of hazardous or toxic chemicals, introduction of non-indigenous species, impacts to endangered and threatened species, aquaculture projects, and impacts to coral reef systems).

After the application is submitted, NOAA may require additional information to fulfill NEPA requirements. If NOAA determines that an environmental assessment is required, applicants may also be requested to assist in drafting the assessment. Applicants may also be required to cooperate with NOAA in identifying and implementing feasible measures to reduce or avoid any identified adverse environmental impacts of their proposal. The failure to do so shall be grounds for the denial of an application. In some cases if additional information is required after an application is selected, funds can be withheld by the Grants Officer under a special award condition requiring the recipient to submit additional environmental compliance information sufficient to enable NOAA to make an assessment on any impacts that a project may have on the environment.

Applicants are required to answer the questions indicated in this Announcement of Federal Funding Opportunity. Applicants should answer the NEPA questions to the best of their ability with as much detail as possible. If the applicant does not answer all the questions indicated in the Announcement of Federal Funding Opportunity the application may be considered incomplete.

Some of the questions may overlap with material provided in other parts of the application. This overlap occurs because the answers to the questionnaire are provided to NOAA staff members who do not review the other parts of the application. If appropriate, the applicant may copy the information from other parts of the application and paste it into the answers to the questionnaire. Many questions have a “yes” or “no” response. If the response is “no” the applicant does not need to elaborate on their answer. If the response is “yes” the question will have a second part asking the applicant to provide more information.

Applicant NEPA questions are as follows:

Question C1. Is the proposed activity going to be conducted in partnership with NOAA or would the proposed activity require NOAA's direct involvement, activity, or oversight? If yes, describe NOAA's involvement, activity, or oversight, including the name of the office or program that is involved.

Question C2. Would the proposed activity involve any other Federal agency(ies) partnership, direct involvement, activity, or oversight? If yes, provide the name(s) of the agency(ies) and describe its involvement, activity, or oversight.

Question D1. Provide a brief description of the location of the proposed activity.

Question E1. List any Federal, State, or local permits, authorizations, or waivers that would be required to complete the proposed activity. Provide the date the permit, authorization, or waiver was obtained or will be obtained. Provide copies of the permit, authorization, or waiver as appropriate. Was a NEPA analysis prepared for the permit, authorization, or waiver? If yes, state the title of the NEPA analysis and provide copies of the NEPA analysis.

Question F1. Is there the potential for the proposed activity to cause changes that would be different from normal ambient conditions (for example, temperature, light, turbidity, noise, other human activity levels, etc.)? If yes, describe the changes and the circumstances that would cause these changes.

Paperwork Reduction Act Statement

This documents contains collection-of-information requirements subject to the Paperwork Reduction Act (PRA). The use of Standard Forms 424, 424A, 424B, and SF-LLL have been approved by OMB under the respective control numbers 0348-0043, 0348-0044, 0348-0040, and 0348-0046. The application requirements specific to the NOAA Regional Ocean Partnership Funding Program have been approved by the Office of Management and Budget under Control Number 0648-0538. Public reporting burden for this collection of information is estimated to average 3 hours per response, including the time for reviewing instructions, searching existing data sources, gathering and maintaining the data needed, and completing and reviewing the collection of information. Send comments regarding this burden estimate or any other suggestions for reducing this burden to Ms. Cristi Reid, NOAA Office of Program Planning and Integration, SSMC 3, Room 15700, 1315 East West Highway, Silver Spring, MD 20910. The information collection does not request any proprietary or confidential information. No confidentiality is provided.

Notwithstanding any other provisions of the law, no person is required to respond to, nor shall any person be subjected to a penalty for failure to comply with, a collection of information subject to the requirements of the Paperwork Reduction Act, unless that collection of information displays a currently valid OMB Control Number.

(2) Focus Area 2 Proposals

Full proposal applications must be 5 pages or less (single-spaced, 11 or 12-point font and exclusive of appendices). The 5-page limit does not include the proposal title page, a table of contents (if one is included), the project summary referenced below and any appendices. Appendices should be limited to budget, resumes and support letters. Applicants should number the pages of the proposal and any appendices. Appendices may be paginated as stand-alone documents (individually) or as part of the larger document. Proposals failing to comply with the format prescribed in this section will be deemed incomplete and will not be considered for further review.

Required Elements

All funding application packages must contain the following components:

(a) Title Page (Proposal Cover Sheet). Include proposal title, complete contact information for the Principal Investigator and Financial Representative, duration of proposed project, funding type (cooperative agreement), and amount of funding request.

(b) Project Summary. Provide a one-page summary of the proposed project.

The summary should be prepared to be readable to a broad audience and

contain the following sections:

i. Project Name/Title.

ii. Primary Contact (name, address, phone, fax, e-mail).

iii. Recipient Organization or Institution.

iv. Other Investigators (name, affiliated organization, institution or agency).

v. Brief Project Summary including objectives, ties to ROP Development and Governance, and intended benefits.

vi. Partners.

vii. Proposed funding for each year of the project. If the proposal includes funding to NOAA to provide technical assistance on the project, make sure to note the amounts by year and line office that is the intended recipient of the funds.

viii. If the project is intended to be administered under an existing NOAA Cooperative Institute, state which Institute will administer the award.

(a) Project Description. All project descriptions (proposals) must include the following sections:

i. Goal and Objective(s). Describe in the narrative the specific project goals and objectives to be achieved. In particular note the connection to ROP Development and Governance. Objectives should be specific for each year of the work plan presented. Recipients will be required to submit semi-annual progress reports in which progress against these goals and objectives will be reported.

ii. Background. Provide sufficient background information for NOAA and non-NOAA reviewers to independently assess the significance of the proposed project. Summarize the problem to be addressed and the status of ongoing efforts to address the identified needs. Summarize the relationship of the proposed work to other ongoing or planned regional ocean governance efforts.

iii. Partnerships: Provide information on how the project will build the partnerships, especially cross governmental on all state, tribal and Federal agencies with interest in coastal and ocean management as well as partnership building with industry, nongovernmental organizations, and academia.

iv. Audience. Identify specific users of the results of the project, describe how they will use the results, and identify any training that will be needed for users to make full use of the results.

v. Approach. Provide a work plan that: identifies specific tasks to be accomplished; explains the technical approach (including quality assurance) needed to accomplish the tasks; identifies the roles of partners and cooperators; and identifies potential obstacles to successful completion of the goals and objectives. Describe how users are involved in the planning and design process. The work plan must clearly address data management requirements, and the steps to be taken to achieve efficient and effective data access and archiving that is compliant with Federal regulations. Clearly identify the roles and responsibilities of the Federal.

vi. Benefits. Identify, with a high degree of specificity, the uses of the information derived from the work, and the benefits that will be achieved from those uses, or by particular users of the information, as well as society as a whole. Document how valid user requirements are guiding the proposed work. Describe how the information from the project will be delivered to those users, and any special considerations or requirements for ensuring or improving the delivery of information.

vii. Milestone Schedule. Display time lines for major tasks, target milestones for important intermediate and final products, and key project outcomes.

viii. Project Budget. Provide a budget description that follows the categories and formats in the NOAA grants package (Standard Form 424-A) and a brief narrative justification of the budget.

ix. Detailed budget information, such as a repeat of the information in Form SF-424A along with more details should be included in an appendix. In this appendix, the budget narrative also shall clearly identify the cost of separable elements of the proposed work and shall identify the elements of the project that the cooperator would recommend for revision or elimination if sufficient funding is not available for all proposed activities.

x. Applicants must itemize and describe the intended use of equipment costing $5,000 or greater that will be purchased under the award. Applicants must complete a lease versus purchase analysis for any equipment $5,000 or greater. For proposals to carry out basic or applied scientific research, non-profit institutions of higher education or non-profit organizations whose primary purpose is conducting scientific research should identify, if possible, who will be requested to retain ownership of any equipment purchased through grant funds after the project ends. The decision on grant ownership requests will be made by the Grants Officer before or during the grant close out process.

xi. The budget narrative must also provide, to the extent possible, detailed information on travel, including costs, a description of anticipated travel, destinations, the number of travelers, and a justification of how the requested travel is directly relevant to the successful completion of the project. If actual trip details are unknown, applicants must state the basis for the proposed travel charges. Applicants should allocate travel funds for any coordination meetings at regional or national levels. Foreign travel must receive prior approval, and therefore, should be included in the proposal to avoid having to request prior approval after the project starts. Applicants may factor in travel costs for participation in annual NOAA Grants Management Division workshops for recipients, as well as for meeting with NOAA staff and/or key project personnel.

(3) Appendices

(a) Mandatory Detailed Budget Information, including budgets of subawards and contracts. Information should include the name of the entity receiving funds, the location of the entity receiving the funds (for example, city, State, and Congressional district), the location of the entity receiving funds (city, State, and Congressional district), and the location of the primary place of performance under the contract/subaward.

(b) Resumes. Provide resumes of the Principal Investigator for the project and other key personnel critical to the success of the project. Ensure that resumes address qualifications relevant to conducting the proposed work. Please limit resumes to a maximum of two pages for each key investigator.

(c) National Environmental Policy Act (NEPA)—Under the National Environmental Policy Act (NEPA), NOAA must analyze the potential environmental impacts of projects or proposals seeking funding from NOAA. Detailed information on NOAA compliance with NEPA can be found at the following NOAA NEPA Web site: http://www.nepa.noaa.gov/ including our NOAA Administrative Order 216-6 for NEPA, http://www.nepa.noaa.gov/NAO216_—6_—TOC.pdf and the Council on Environmental Quality implementation regulations, http://ceq.eh.doe.gov/nepa/regs/ceq/toc_ceq.htm.

Consequently, as part of an applicant's package, and under their description of their program activities, applicants are required to provide detailed information on the activities to be conducted, locations, sites, species and habitat to be affected, possible construction activities, and any environmental concerns that may exist (for example, the use and disposal of hazardous or toxic chemicals, introduction of non-indigenous species, impacts to endangered and threatened species, aquaculture projects, and impacts to coral reef systems).

After the application is submitted, NOAA may require additional information to fulfill NEPA requirements. If NOAA determines that an environmental assessment is required, applicants may also be requested to assist in drafting the assessment. Applicants may also be required to cooperate with NOAA in identifying and implementing feasible measures to reduce or avoid any identified adverse environmental impacts of their proposal. The failure to do so shall be grounds for the denial of an application. In some cases if additional information is required after an application is selected, funds can be withheld by the Grants Officer under a special award condition requiring the recipient to submit additional environmental compliance information sufficient to enable NOAA to make an assessment on any impacts that a project may have on the environment.

Applicants are required to answer the questions indicated in this Announcement of Federal Funding Opportunity. Applicants should answer the NEPA questions to the best of their ability with as much detail as possible. If the applicant does not answer all the questions indicated in the Announcement of Federal Funding Opportunity the application may be considered incomplete.

Some of the questions may overlap with material provided in other parts of the application. This overlap occurs because the answers to the questionnaire are provided to NOAA staff members who do not review the other parts of the application. If appropriate, the applicant may copy the information from other parts of the application and paste it into the answers to the questionnaire. Many questions have a “yes” or “no” response. If the response is “no” the applicant does not need to elaborate on their answer. If the response is “yes” the question will have a second part asking the applicant to provide more information.

Applicant NEPA questions are as follows:

Question C1. Is the proposed activity going to be conducted in partnership with NOAA or would the proposed activity require NOAA's direct involvement, activity, or oversight? If yes, describe NOAA's involvement, activity, or oversight, including the name of the office or program that is involved.

Question C2. Would the proposed activity involve any other Federal agency(ies) partnership, direct involvement, activity, or oversight? If yes, provide the name(s) of the agency(ies) and describe its involvement, activity, or oversight.

Question D1. Provide a brief description of the location of the proposed activity.

Question E1. List any Federal, state, or local permits, authorizations, or waivers that would be required to complete the proposed activity. Provide the date the permit, authorization, or waiver was obtained or will be obtained. Provide copies of the permit, authorization, or waiver as appropriate. Was a NEPA analysis prepared for the permit, authorization, or waiver? If yes, state the title of the NEPA analysis and provide copies of the NEPA analysis.

Question F1. Is there the potential for the proposed activity to cause changes that would be different from normal ambient conditions (for example, temperature, light, turbidity, noise, other human activity levels, etc.)? If yes, describe the changes and the circumstances that would cause these changes.

Paperwork Reduction Act Statement

This documents contains collection-of-information requirements subject to the Paperwork Reduction Act (PRA). The use of Standard Forms 424, 424A, 424B, and SF-LLL have been approved by OMB under the respective control numbers 0348-0043, 0348-0044, 0348-0040, and 0348-0046. The application requirements specific to the NOAA Regional Ocean Partnership Funding Program have been approved by the Office of Management and Budget under Control Number 0648-0538. Public reporting burden for this collection of information is estimated to average 3 hours per response, including the time for reviewing instructions, searching existing data sources, gathering and maintaining the data needed, and completing and reviewing the collection of information. Send comments regarding this burden estimate or any other suggestions for reducing this burden to Ms. Cristi Reid, NOAA Office of Program Planning and Integration, SSMC 3, Room 15700, 1315 East West Highway, Silver Spring, MD 20910. The information collection does not request any proprietary or confidential information. No confidentiality is provided.

Notwithstanding any other provisions of the law, no person is required to respond to, nor shall any person be subjected to a penalty for failure to comply with, a collection of information subject to the requirements of the Paperwork Reduction Act, unless that collection of information displays a currently valid OMB Control Number.

C. Intergovernmental Review

Applications under this program are subject to Executive Order 12372, “Intergovernmental Review of Federal Programs” for states that participate in this process. It is the state agency's responsibility to contact their state's Single Point of Contact (SPOC) to find out about and comply with the state's process under EO 12372. A list of the participating states and the clearinghouse points of contact can be found at http://www.whitehouse.gov/omb/grants_spoc.

D. Funding Restrictions

None.

E. Other Submission Requirements

(1) Letter of Endorsement—As detailed in Section III.C., where applicable, each proposal must include a letter of support or endorsement from the lead ROP identified for each region for the purposes of this funding opportunity.

(2) Full proposal application packages, including any letters of support, should be submitted through the apply function on Grants.gov. The standard NOAA funding application package is available at www.grants.gov. Please be advised that potential funding applicants must register with Grants.gov before any application materials can be submitted. An organization's one time registration process may take up to three weeks to complete so please allow sufficient time to ensure applications are submitted before the closing date. The Grants.gov site contains directions for submitting an application, the application package (forms), and is also where the completed application is submitted.

(3) If an applicant does not have Internet access, one set of originals (signed) and two copies of the proposals and related forms should be mailed to the attention of James Lewis Free, NOAA Coastal Services Center, 2234 South Hobson Avenue, Charleston, South Carolina 29405-2413. No e-mail or fax copies will be accepted. Full proposal application packages, including any letters of support, should be submitted together in one package.

V. Application Review Information

A. Evaluation Criteria

(1) Importance and/or relevance and applicability of proposed project to the program goals (50 percent): This ascertains whether there is intrinsic value in the proposed work and/or relevance to NOAA, Federal, regional, State, or local activities.

For Focus Area 1, questions related to this criterion include:

(a) Does the proposal identify clear goals and objectives that are consistent with ROP priorities and, as appropriate, the CMSP Framework (available at http://www.whitehouse.gov/files/documents/OPTF_FinalRecs.pdf)? For applicants from regions without an established ROP (e.g., Alaska and Hawaii), does the proposal demonstrate that they are working towards a regional ocean partnership?

(b) To what extent does the proposal address CMSP Guiding Principles?

(c) Does the proposal address an Area of Special Emphasis?

(d) Does the proposal identify outcomes that are focused and realistic given the time frame and scope of the project?

(e) Will the proposal advance ROP priorities and regional CMSP efforts? For applicants from regions without an established ROP, does the proposal advance regional CMSP efforts as well as show how the region will work towards establishing a ROP?

(f) If applicable, does the proposal clearly identify ROP goals for CMSP development? Are they achievable?

(g) Does the proposal identify primary partners, expand existing partnerships, and key stakeholders and describe how they will participate in project activities, including CMSP activities where applicable?

(h) Does the proposal reflect strong support from project partners?

(i) Does the proposal demonstrate either direct involvement or a letter of support from the lead ROP in the region? For applicants from regions without an established ROP, is the proposal supported by the relevant governors and lead State and Federal agencies and tribes involved in coastal and ocean management?

(j) Will the proposal result in benefits that are region-wide or transferable to other ROP and CMSP priorities and regions?

For Focus Area 2, questions include:

(a) Does the proposal contribute to the establishment or implementation of a long term regional ocean partnership?

(b) Does the proposal identify an effective development process that will result in a consensus for regional priorities, specific action steps to address those priorities, and tangible outcomes that will be accomplished?

(c) Establishing a regional ocean partnership may come with challenges/barriers (i.e., entities in a region may be accustomed to traditions of competing for economic development, research funding, and other financial or social benefits). To what extent does the proposal identify such challenges/barriers and explain how such barriers will be overcome?

(d) Does the proposal adequately identify methods in which development activities will be coordinated to achieve active and meaningful participation by all partners, including various levels of governments, and appropriate stakeholders in the region?

(e) Does the proposal include methods to achieve lasting coordination for regional ocean governance and for the implementation of a regional ocean partnership?

(f) Does the partnership include participation by a large cross section of state, Federal and tribal governments and participation by other relevant interest groups?

(2) Technical and scientific merit (25 percent): This assesses whether the approach is technically sound and/or innovative, if the methods are appropriate, and whether there are clear project goals and objectives.

Questions relevant to this criterion include:

(a) Is the approach appropriate for the stated goals and objectives?

(b) Are the project goals and objectives achievable within the proposed time-frame?

(c) Does the proposed approach incorporate current guidance, scientific, and/or technical advancements in the design and implementation of the proposed work?

(d) If geospatial data are to be acquired, does the proposal promote interoperability with other components of regional and national geospatial systems? Has a thorough search been conducted to ensure that data do not already exist that can meet the intended purpose of the proposed acquisition? Will the data be collected to national and/or international standards and specifications that promote multi-purpose uses in the future per Federal Geospatial Data Committee standards and the Ocean and Coastal Mapping Integration Act of 2009? Does the proposal comply with Executive Order 12906, Coordinating Geographic Data Acquisition and Access: The National Spatial Data Infrastructure?

(3) Overall qualifications of the funding applicants (15 percent): This criterion ascertains whether the funding applicant and identified collaborators possess the necessary education, experience, training, facilities, and administrative resources to accomplish the project. Questions relevant to this criterion include:

(a) Are the investigators qualified and is the organizational framework appropriate to conduct a project of the nature and scope proposed?

(b) Are investigators from other agencies and institutions within the region included as key personnel on the project to capitalize on available expertise and promote a regional approach?

(c) Does the proposal adequately address the capacity of the applicant and partners to implement proposed work?

(d) Does the proposal adequately define how participation and accountability among principle investigators and partners will be sustained to the continued progress and success?

(4) Project costs and metrics (10 percent). This criterion evaluates the budget to determine if it is realistic and commensurate with the project needs and time-frame. Questions relevant to this criterion include:

(a) Does the proposal demonstrate that the budget is commensurate with project needs?

(b) Is the cost effectiveness of the proposal optimized through strategic partnerships with collaborating institutions, agencies, or private sector partners?

(c) Are the budget and budget justification adequately detailed to determine how requested funds will be used (i.e. salary, equipment, supplies, travel, etc.)?

(5) Outreach and education (0 percent). NOAA assesses whether this project provides a focused and effective education and outreach strategy regarding NOAA's mission to protect the Nation's natural resources. This competition does not include this criterion.

B. Review and Selection Process

An initial administrative screening is conducted to determine compliance with requirements/completeness. All proposals will be evaluated and individually ranked in accordance with the assigned weights of the above evaluation criteria by at least three independent peer reviewers through a full merit review process (i.e., a mail and panel review process). A mix of Federal and non-Federal reviewers will be used. No consensus advice will be given by the independent peer reviewers through mail reviews or on the review panels. The merit reviewer's ratings are used to produce a rank order of the proposals. The Selecting Official shall award according to rank order unless there is a specific justification for selecting out of rank order based upon factors listed in Section V.C. The Selecting Official or designee may also negotiate the funding level of the proposals to be recommended for funding. The Selecting Official will make the final recommendation for award to the Grants Officer, who is authorized to obligate the funds and execute the award. Proposals that are not funded in the current fiscal period may be considered for funding in another fiscal period without having to repeat the competitive review process.

C. Selection Factors

The merit review ratings shall provide a rank order to the Selecting Official for final funding recommendations. A program officer may first make recommendations to the Selecting Official applying the selection factors below. The Selecting Official shall award in the rank order unless the proposal is justified to be selected out of rank order based upon one or more of the following factors:

1. Availability of funding.

2. Balance/distribution of funds:

a. Geographically.

b. By type of institutions.

c. By type of partners.

d. By research areas.

e. By project types.

3. Whether this project duplicates other projects funded or considered for funding by NOAA or other Federal agencies.

4. Program priorities and policy factors.

5. Applicant's prior award performance.

6. Partnerships and/or Participation of targeted groups.

7. Adequacy of information necessary for NOAA staff to make a NEPA determination and draft necessary documentation before recommendations for funding are made to the Grants Officer.

The Selecting Official or designee may negotiate the funding level of the proposal.

D. Anticipated Announcement and Award Dates

The start date on proposals should be the first day of July, August or September, but no later than October 1, of 2011.

VI. Award Administration Information

A. Award Notices

Applications recommended for funding by the selecting official will be forwarded to the NOAA Grants Management Division by the Program Office. The applicant will be notified by the program office by e-mail that their application was recommended for funding. The applicant must be aware that the notification by the program office is NOT the official award notice. Official notification happens only when the applicant receives an award notice from the Grants Officer either by postal mail or electronically.

Unsuccessful applications for all Coastal Services Center programs will be destroyed after any FY 2012 funding actions are considered. Unsuccessful applicants will be notified by e-mail that their application was not recommended for funding no later than the proposed state date of the proposal.

B. Administrative and National Policy Requirements

Department of Commerce Pre-Award Notification Requirements for Grants and Cooperative Agreements

Administrative and national policy requirements for all Department of Commerce awards are contained in the Department of Commerce Pre-Award Notification Requirements for Grants and Cooperative Agreements contained in the Federal Register notice of February 11, 2008 (73 FR 7696). This notice may be obtained under http://www.access.gpo.gov/su_docs/fedreg/a080211c.html.

Limitation of Liability

In no event will NOAA or the Department of Commerce be responsible for any proposal preparation costs. In addition, NOAA and DOC will not be responsible for project costs if this program fails to receive funding. Publication of this announcement does not oblige NOAA to award any specific project or to obligate any available funds.

National Environmental Policy Act (NEPA) Requirements

See the NEPA information in Section IV., B., of this announcement.

C. Reporting

Grant recipients will be required to submit financial and performance (technical) progress reports electronically through the NOAA Grants On-Line System. Instructions for submitting financial and progress reports will be provided by the NOAA Grants Management Division.

VII. Other Information

After electronic submission of the application through Grants.gov, the person submitting the application will receive within the next 24 to 48 hours two e-mail messages from Grants.gov updating them on the progress of their application. The first e-mail will confirm receipt of the application by the Grants.gov system, and the second will indicate that the application has either been successfully validated by the system before transmission to the grantor agency or has been rejected because of errors. After the application has been validated, this same person will receive another e-mail when the application has been downloaded by the Federal agency.

Official notification of an award notice is provided by the Grants Management Division, not the program office. If one incurs any costs before receiving an award agreement from an authorized NOAA grant official, one would do so solely at one's own risk of these costs not being included under the award.

The Coastal Services Center will not release the names of applicants submitting proposals unless ordered by a court or requested to do so by an appropriate NOAA official and administrative protocol. Applicants can use a NOAA public search feature to find out information about NOAA awards https://grantsonline.rdc.noaa.gov/flows/publicSearch/begin.do or go through the Freedom of Information Act process to request more information about grant competitions. More information about the NOAA FOI process is online at http://www.rdc.noaa.gov/foia/.

Successful applicants will be requested to ensure that all interim progress reports indicate whether financial reports have been submitted to NOAA's Grants Management Division and are up-to-date. Applicants in their final progress report will be asked to (a) Clearly state the resulting impact of their project and products in the coastal management community; and (b) certify that “Final financial reports have been submitted to NOAA's Grants Management Division and a final funding draw-down has been made through the Automated Standard Application for Payments (ASAP).”

If equipment is purchased with grant funds, applicants may be asked to submit an equipment inventory in accordance with 15 CFR 14.34(f)(3), 15 CFR 24.32(b) or 15 CFR 24.32(d)(2) as an appendix to progress reports. Further, the program office recommends that recipients request disposition instructions for equipment approximately 150 days before the project period ends to allow sufficient time to have equipment disposition requests addressed before a project period ends. Equipment disposition instructions typically require that recipients complete an “other” award action request in Grants Online. NOAA will provide instructions for disposition in accordance with 15 CFR 14.34(g)-(h) and 15 CFR 24.32(g)(2).

Please be advised that potential funding applicants must register with Grants.gov before any application materials can be submitted. An organization's one time registration process may take up to three weeks to complete so please allow sufficient time to ensure applications are submitted before the closing date. To use Grants.gov, applicants must have a Dun and Bradstreet Data Universal Numbering System (DUNS) number and be registered in the Central Contractor Registry (CCR). Allow a minimum of five days to complete the CCR registration. (Note: Your organization's Employer Identification Number (EIN) will be needed on the application form.)

The Grants.gov site contains directions for submitting an application, the application package (forms), and is also where the completed application is submitted. Applicants using Grants.gov must locate the downloadable application package for this solicitation by the Funding Opportunity Number or the CFDA number (11.473). Applicants will be able to download a copy of the application package, complete it off line, and then upload and submit the application via the Grants.gov site.

After electronic submission of the application, the person submitting the application will receive within the next 24 to 48 hours two e-mail messages from Grants.gov updating them on the progress of their application. The first e-mail will confirm receipt of the application by the Grants.gov system, and the second will indicate that the application has either been successfully validated by the system before transmission to the grantor agency or has been rejected because of errors. After the application has been validated, this same person will receive another e-mail when the application has been downloaded by the Federal agency.

Christopher C. Cartwright,
Associate Assistant Administrator for Management and CFO/CAO, Ocean Services and Coastal Zone Management.

[FR Doc. 2010-22645 Filed 9-10-10; 8:45 am]

BILLING CODE 3510-JE-P